DEPARTMENT OF COMMERCE

Foreign-Trade Zones Board

[Order No. 1787]

Reorganization of Foreign-Trade Zone 137 under Alternative Site Framework Washington Dulles International Airport, VA Area

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09; 75 FR 71069-71070, 11/22/10) as an option for the establishment or reorganization of general-purpose zones;

Whereas, the Washington Dulles Foreign Trade Zone Inc., grantee of Foreign-Trade Zone 137, submitted an application to the Board (FTZ Docket 19-2011, filed 03/14/11) for authority to reorganize under the ASF with a service area of Frederick, Clarke, Loudoun, Fairfax, Fauquier, Prince William and Arlington Counties and the City of Alexandria, Virginia, in and adjacent to the Washington Dulles International Airport Customs and Border Protection port of entry; the non-contiguous parcel of Site 4 would be renumbered as Site 7; FTZ 137's Sites 1-6 would be categorized as magnet sites; and, Site 7 would be categorized as a usage-driven site;

Whereas, notice inviting public comment was given in the Federal Register (76 FR 14900-14901, 03/18/11) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize FTZ 137 under the alternative site framework is approved, subject to the FTZ Act and the Board's regulations, including Section 400.28, to the Board's standard 2,000-acre activation limit for the overall general-purpose zone project, to a five-year ASF sunset provision for magnet sites that would terminate authority for Sites 2-6 if not activated by September 30, 2016, and to a three-year ASF sunset provision for usage-driven sites that would terminate authority for Site 7 if no foreign-status merchandise is admitted for a bona fide customs purpose by September 30, 2014.

Signed at Washington, DC, this 30th day of September 2011.
Ronald K. Lorentzen
Deputy Assistant Secretary for Import Administration, Alternate Chairman, Foreign-Trade Zones Board,
ATTEST: Andrew McGilvray, Executive Secretary.

[FR Doc. 2011-26365 Filed 10-11-11; 8:45 am]

BILLING CODE P